DEPARTMENT OF COMMERCE

National Oceanic and Atmospheric Administration

50 CFR Part 223

[Docket No. 120427423-2423-02]

RIN 0648-AW93

Sea Turtle Conservation; Shrimp and Summer Flounder Trawling Requirements; Correction

AGENCY: National Marine Fisheries Service (NMFS), National Oceanic and Atmospheric Administration (NOAA), Commerce.

ACTION: Final rule; correcting amendment.

SUMMARY: On May 21, 2012, we published a final rule to revise the turtle excluder devices (TEDs) requirements to allow new materials and to modify existing approved TED designs. In this notice, we are correcting a technical error in the definition of a brace bar included in the allowable modifications to hard TEDs and special hard TEDs.

DATES: Effective Date: August 13, 2012.

ADDRESSES: NMFS, Southeast Regional Office, Protected Resources Division, 263 13th Avenue South, St. Petersburg, FL 33701-5505.

FOR FURTHER INFORMATION CONTACT: Michael Barnette, NMFS, Southeast Regional Office, and the address above, or at (727) 551-5794.

SUPPLEMENTARY INFORMATION:

Background

On May 21, 2012 (77 FR 29905), we published a final rule revising the TED requirements to allow the use of new materials and to modify existing approved TED designs. The definition of a brace bar included as an allowable modification was wrong, however, and must be corrected. Specifically, the previous definition incorrectly required the brace bar to be permanently attached to the frame and rear face of each of the deflector bars within 4 inches (10.2 cm) of the midpoint of the TED frame. This requirement is explicit only for TEDs constructed of steel or aluminum flat bar less than ⅜ inch in thickness, as noted in § 223.207, paragraph (a)(1)(i)(D). For TEDs constructed of steel, fiberglass, or aluminum rod meeting the minimum specified dimensions; steel or aluminum tubing meeting the minimum specified dimensions; or steel or aluminum flat bar ⅜ inch (0.95 cm) or more in thickness, an optional brace bar need only be secured to the rear face of the TED frame. A brace bar on a TED frame constructed of the aforementioned materials may also be secured to the rear face of each of the deflector bars, with or without spacer bars, but this is not a requirement.

Correction

Accordingly, the final rule published on May 21, 2012 (77 FR 29905), is corrected and is effective upon publication. On page 29909, column 3, paragraph (d)(9) is corrected.

List of Subjects in 50 CFR Part 223

Endangered and threatened species, Exports, Imports, Transportation.

Dated: August 7, 2012.
Samuel D. Rauch III,
Deputy Assistant Administrator for Regulatory Programs, performing the functions and duties of the Assistant Administrator for Fisheries, National Marine Fisheries Service.

For the reasons set out in the preamble, 50 CFR part 223 is amended by making the following corrected amendment:

PART 223—THREATENED MARINE AND ANADROMOUS SPECIES

1. The authority citation for part 223 continues to read as follows:

Authority: 16 U.S.C. 1531-1543; subpart B, § 223.201-202 also issued under 16 U.S.C. 1361 et seq.; 16 U.S.C. 5503(d) for § 223.206 (d)(9).

2. In § 223.207, paragraph (d)(9) is revised to read as follows:

§ 223.207 Approved TEDs.

* * * * *

(d) * * *

(9) Brace bar. (Figure 14a of this part). A horizontal brace bar may be added to a TED if the brace bar is constructed of aluminum or steel rod or tubing specified in 50 CFR 223.207(a)(1)(i)(A) through (C), or flat bar ⅜-inch (0.95 cm) or more in thickness, and is permanently attached to the rear of the outer frame; for TEDs constructed of flat bar less than ⅜-inch (0.95 cm) in thickness, the regulations specified in 50 CFR 223.207(a)(1)(i)(D) apply. The horizontal brace bar may be permanently secured to the rear face of each of the deflector bars. The horizontal brace bar may be offset behind the deflector bars, using spacer bars attached to the rear face of each of the deflector bars, not to exceed 5 inches (12.7 cm) in length, and must be constructed of the same size or larger material as the deflector bars.

* * * * *

[FR Doc. 2012-19809 Filed 8-10-12; 8:45 am]

BILLING CODE 3510-22-P